DEPARTMENT OF LABOR

Employment and Training Administration

[TA-W-39,703]

Echo Bay Minerals Co., Battle Mountain, NV; Notice of Revised Determination on Reopening

On December 14, 2001, the Department on it's own motion reopened the Department's Negative Determination Regarding Eligibility to Apply for Worker Adjustment Assistance, applicable to the workers of the subject firm.

The initial investigation resulted in a negative determination issued on December 5, 2001, based on the finding that imports of gold dore did not contribute importantly to worker separations at the subject plant. The denial notice was published in the Federal Register on December 26, 2001 (66 FR 66428).

The company supplied additional information to help clarify the products produced at the subject site. The company provided data showing that the dominant product produced at the subject site was silver. The silver production accounted for over half of the subject plant's revenues during the relevant period.

An examination of aggregate U.S. imports of silver revealed that silver imports increased significantly during the relevant period. The U.S. import to U.S. shipment ratio for silver was greater than 100 percent during the relevant period.

The workers at Echo Bay Minerals Co., Battle Mountain, Nevada were under an existing trade adjustment assistance certification (TA-W-36,557) through August 5, 2001.

Conclusion

After careful review of the additional facts obtained on reconsideration, I conclude that increased imports of articles like or directly competitive with those produced at Echo Bay Minerals Co., Battle Mountain, Nevada, contributed importantly to the declines in sales or production and to the total or partial separation of workers at the subject firm. In accordance with the provisions of the Act, I make the following certification:

All workers of Echo Bay Minerals Co., Battler Mountain, Nevada who became totally or partially separated from employment on or after August 6, 2001, through two years from the date of this certification, are eligible to apply for adjustment assistance under section 223 of the Trade Act of 1974.

Signed in Washington, DC, this 14th day of Janaury 2002.
Edward A. Tomchick,
Director, Division of Trade Adjustment Assistance.

[FR Doc. 02-2343 Filed 1-29-02; 8:45 am]

BILLING CODE 4510-30-M